DEPARTMENT OF TRANSPORTATION

Federal Aviation Administration

Agency Information Collection Activities: Requests for Comments; Clearance of Renewed Approval of Information Collection: Air Taxi and Commercial Operator Airport Activity Survey

AGENCY: Federal Aviation Administration (FAA), DOT.

ACTION: Notice and request for comments.

SUMMARY: In accordance with the Paperwork Reduction Act of 1995, FAA invites public comments about our intention to request the Office of Management and Budget (OMB) approval to renew an information collection.

DATES: Written comments should be submitted by January 27, 2014.

ADDRESSES: Send comments to the FAA at the following address: Ms. Kathy DePaepe, Room 126B, Federal Aviation Administration, AES-200, 6500 S. MacArthur Blvd., Oklahoma City, OK 73169.

FOR FURTHER INFORMATION CONTACT: Kathy DePaepe at (405) 954-9362, or by email at: Kathy.DePaepe@faa.gov.

SUPPLEMENTARY INFORMATION:

OMB Control Number: 2120-0067.

Title: Air Taxi and Commercial Operator Airport Activity Survey.

Form Numbers: FAA Form 1800-31.

Type of Review: Renewal of an information collection.

Background: Enplanement data collected from air taxi and commercial operators are required for the calculation of air carrier airport sponsor apportionments as specified by the Airport Improvement Program (AIP), and 49 U.S.C. part A, Air Commerce Safety, and part B, Airport Development and Noise. The data collected serves as the only source of data for charter and nonscheduled passenger data by Part 135 operators (air taxis). The data received on the form is then incorporated into the Air Carrier Activity Information System which is used to determine whether an airport is eligible for AIP funds and for calculating primary airport sponsor apportionment as specified by Title 49 U.S.C. The data collected on the form includes passenger enplanements by carrier and by airport.

Respondents: Approximately 300 Part 135 operators.

Frequency: Information is collected annually.

Estimated Average Burden per Response: 1.5 hours.

Estimated Total Annual Burden: 450 hours.

Public Comments Invited: You are asked to comment on any aspect of this information collection, including 1. Whether the proposed collection of information is necessary for FAA's performance; 2. The accuracy of the estimated burden; 3. Ways for FAA to enhance the quality, utility and clarity of the information collection; and 4. Ways that the burden could be minimized without reducing the quality of the collected information. The agency will summarize and/or include your comments in the request for OMB's clearance of this information collection.

Issued in Washington, DC on November 18, 2013.
Albert R. Spence,
FAA Assistant Information Collection Clearance Officer, IT Enterprises Business Services Division, AES-200.

[FR Doc. 2013-28213 Filed 11-26-13; 8:45 am]

BILLING CODE 4910-13-P